DEPARTMENT OF STATE

[Public Notice 6554]

Preparations for Holocaust Era Assets Conference—Town Hall Follow-up Meetings on Looted Art, Immovable Property and Holocaust Compensation Agreements

The Special Envoy for Holocaust Issues at the Department of State is seeking information from interested individuals or organizations regarding the planned Conference on Holocaust Era Assets which will take place June 26-30, 2009 in Prague.

Hosted by the Government of the Czech Republic, the conference will address certain unresolved Holocaust asset issues, particularly Looted Art and Immovable Property. The conference schedule will also include a review of the Holocaust compensation agreements with Germany, Austria and France, and the work of the International Commission for Holocaust Insurance Claims (ICHEIC).

The Department will host meetings at the Department of State (Harry S. Truman Building) on April 15 and 16 to hear the views of individuals, non-governmental agencies and firms on these issues. The sessions on looted art and immovable property will be a follow-up to the March 2 meetings on those subjects.

Those who wish to provide information to the State Department regarding those issues are invited to register and attend one or more of the following two-hour sessions:

—April 15 at 9:45 a.m.: Holocaust Agreements on Compensation—a Stocktaking

—April 16 at 9:45 a.m.: Looted Art

—April 16 at 1:45 p.m.: Immovable Property

Anyone wishing to attend any of these events should register separately for each by 5 p.m. April 10. There are space limitations. To register, send an e-mail no later than April 10 to Ms. Jones-Johnson (Jones-JohnsonCD@state.gov) with the following information:

Full Name:

Date of Birth:

Driver's License Number, including State of Issuance, or

Alternate Government-Issued Picture ID:

Organization represented (if any), and its Address, & Phone Number:

Home Address (only if attending as an individual):

Name of Event(s) to be attended:

Those who register are urged to arrive at the Department at least 15 minutes before the starting time for each event to allow time for security screening. Upon arrival, show security personnel a valid government-issued identification: for example, a U.S. state driver's license or a passport. The official address of the State Department is 2201 C Street, NW., Washington, DC. For these events, however, participants must use the “23rd Street Entrance” on the West Side of the State Department's Harry S. Truman Building, located on 23rd Street between C Street and D Street NW., Washington, DC.

Written submissions are welcome and should be sent to Ms. Jones-Johnson at the e-mail address cited above.

Ambassador J. Christian Kennedy,
Special Envoy for Holocaust Issues, Department of State.

[FR Doc. E9-6319 Filed 3-20-09; 8:45 am]

BILLING CODE 4710-23-P